DEPARTMENT OF AGRICULTURE

Rural Utilities Service

[Docket No. RUS-22-TELECOM-0051]

Notice of Solicitation of Applications for the Distance Learning and Telemedicine Grants for Fiscal Year 2023

AGENCY: Rural Utilities Service, USDA.

ACTION: Notice.

SUMMARY: President Joe Biden has pledged that every American will have access to affordable, reliable, high speed internet. Digital equity—devices, skills and affordability that bring the internet to life—are a critical part of that mission. As part of that work, the Rural Utilities Service (RUS or the Agency), a Rural Development (RD) agency of the United States Department of Agriculture (USDA), announce the acceptance of applications under the Distance Learning and Telemedicine (DLT) grant program for Fiscal Year (FY) 2023, subject to the availability of funding. This notice is being issued prior to passage of a FY 2023 Appropriations Act in order to allow applicants sufficient time to leverage financing, prepare and submit their applications, and give the Agency time to process applications within FY 2023. Based on FY 2022 appropriated funding, the Agency estimates that approximately $64 million will be available for FY 2023. Successful applications will be selected by the Agency for funding and subsequently awarded to the extent that funding may ultimately be made available through appropriations. All applicants are responsible for any expenses incurred in developing their applications.

DATES: Applications must be submitted through https://www.grants.gov/ and received no later than January 30, 2023 to be eligible for funding under this grant opportunity. Late or incomplete applications will not be eligible for funding under this grant opportunity.

ADDRESSES: All applications must be submitted electronically at https://www.grants.gov. Instructions and additional resources, to include an Application Guide, are available at https://www.rd.usda.gov/programs-services/telecommunications-programs/distance-learning-telemedicine-grants, under the “To Apply” tab.

FOR FURTHER INFORMATION CONTACT: For inquiries regarding eligibility concerns, please contact program staff at https://www.usda.gov/reconnect/contact-us. Other inquiries, please contact Randall Millhiser, Deputy Assistant Administrator, Office of Loan Origination and Approval, RUS, USDA, 1400 Independence Avenue SW, Mail Stop 1590, Room 4121-S, Washington, DC 20250-1590, telephone: (202) 720-0800, email: randall.millhiser@usda.gov.

SUPPLEMENTARY INFORMATION:

Overview

Federal Awarding Agency Name: United States Department of Agriculture, Rural Development, Rural Utilities Service.

Funding Opportunity Title: Distance Learning and Telemedicine Grants.

Announcement Type: Notice of Solicitation of Applications.

Funding Opportunity Number: RUS-23-01-DLT.

Assistance Listing Number: 10.855.

Dates: Applications must be submitted through https://www.grants.gov/ and received no later than January 30, 2023 to be eligible for funding under this grant opportunity. Late or incomplete applications will not be eligible for funding under this grant opportunity.

Rural Development Key Priorities: The Agency encourages applicants to consider projects that will advance the following key priorities (more details available at https://www.rd.usda.gov/priority-points):

• Assisting rural communities recover economically through more and better market opportunities and through improved infrastructure.

• Ensuring all rural residents have equitable access to RD programs and benefits from RD funded projects; and

• Reducing climate pollution and increasing resilience to the impacts of climate change through economic support to rural communities.

A. Program Description

1. Purpose of the Program. Seeking to make progress toward President Biden's goal of digital equity throughout the country, the DLT program provides financial assistance to enable and improve distance learning and telemedicine services in rural areas. DLT grant funds support the use of telecommunications-enabled information, audio and video equipment, and related advanced technologies by students, teachers, medical professionals, and rural residents. These grants are intended to increase rural access to education, training, and health care resources that are otherwise unavailable or limited in scope.

2. Statutory and Regulatory Authority. The DLT program is authorized under 7 U.S.C. 950aaa and implemented by 7 CFR part 1734.

3. Definitions. The definitions applicable to this notice are published at 7 CFR 1734.3. Additional definitions applicable to this notice are listed below.

Rural area refers to any area, as confirmed by the most recent decennial Census of the United States, which is not located within a city, town, or incorporated area that has a population of greater than 20,000 inhabitants; or an urbanized area contiguous and adjacent to a city or town that has a population of greater than 50,000 inhabitants; and which excludes certain populations pursuant to 7 U.S.C. 1991(a)(13)(H) and (I). For purposes of the definition of rural area, an urbanized area means a densely populated territory as defined in the most recent decennial Census.

Opioid or other substance use disorder treatment is defined as the interactive communication between medical or educational professionals and opioid users or their families, other treatment professionals or those who interact with opioid or other substance users.

4. Application of Awards. The Agency will review, evaluate, and score applications received in response to this notice based on 7 CFR 1734.26. Awards under the DLT program will be made on a competitive basis using specific selection criteria provided in 7 CFR 1734.27. The Agency advises all interested parties that the applicant bears the full burden in preparing and submitting an application in response to this notice regardless of whether or not funding is appropriated for the DLT program in FY 2023.

B. Federal Award Information

Type of Award: Grants.

Fiscal Year Funds: FY 2023.

Available Funds: Based on FY 2022 appropriated funding, the Agency estimates that approximately $64 million will be available for FY 2023.

To combat a key threat to economic prosperity, rural workforce and quality of life, the Agency sets aside $12 million for projects that seek to reduce the morbidity and mortality associated with Substance Use Disorder (including opioid misuse) in rural communities by strengthening the capacity to address prevention, treatment and/or recovery at the community level. The amount for this set aside is subject to change based on FY 2023 appropriations.

The total appropriated amount minus the determined set aside amount will be available for all eligible projects. RUS may at its discretion, increase the total level of funding available in this funding round from any available source provided the awards meet the requirements of the statute which made the funding available to the Agency.

Award Amounts: Pursuant to 7 CFR 1734.24, the Administrator has established that the minimum grant amount of $50,000 and the maximum grant amount of $1,000,000 will be applied to this grant opportunity, if and when funds are appropriated.

Anticipated Award Date: September 30, 2023.

Performance Period: Three-year period, beginning the date funds are released.

Renewal or Supplemental Awards: Although prior DLT grants cannot be renewed, existing DLT awardees can submit applications for new projects that are distinct from previously funded projects, either because they are for a completely separate purpose and technology or because they propose to serve a new service area, unassociated with prior funded service areas. The Agency will evaluate project proposals from existing awardees as new applications. Grant applications must be submitted during the application window.

Type of Assistance Instrument: Grant Agreement.

C. Eligibility Information

1. Eligible Applicants. Eligible applicants must meet the eligibility requirements of 7 CFR 1734.4.

(a) Applicants must have a Unique Entity Identifier (UEI) and an active registration that includes the Financial Assistance Representations and Certifications and has current information in the System for Award Management (SAM) at: https://www.sam.gov. Further information regarding UEI acquisition and SAM registration can be found in Section D.3 of this document.

(b) Corporations that have been convicted of a federal felony within the past 24 months are not eligible. Any corporation that has been assessed to have any unpaid federal tax liability, for which all judicial and administrative remedies have been exhausted or have lapsed and is not being paid in a timely manner pursuant to an agreement with the authority responsible for collecting the tax liability, is not eligible for financial assistance.

(c) Applicants are required to provide evidence of their ability to contract with RUS to obtain the grant and comply with all applicable requirements, in accordance with 7 CFR 1734.4(a). It is incumbent on applicants to determine the appropriate entity to apply for the grant. Entities created by educational or medical institutions for the purpose of applying for and managing grants, such as university or hospital foundations, should not be applicants unless they can own and manage grant-funded equipment as required by the Grant Agreement and applicable regulations, including 2 CFR part 200. Accordingly, RUS will not transfer awards to another entity because the applicant has later determined that it cannot close the award, execute the standard Grant Agreement, which is publicly available, nor hold the grant assets in its name.

2. Tribal Government Resolution of Consent. A certification from the appropriate tribal official is required if a project is being proposed by a non-Tribal applicant over or on Tribal Lands. The appropriate certification is a Tribal Government Resolution of Consent. The appropriate tribal official is the Tribal Council of the Tribal Government with jurisdiction over the Tribal Lands at issue. Any non-Tribal applicant that fails to provide a certification to administer a project on Tribal Lands will not be considered for funding.

3. Cost Sharing or Matching. The DLT Program requires matching contributions for grants as outlined in 7 CFR 1734.22. The Application Guide located on the DLT website at https://www.rd.usda.gov/programs-services/telecommunications-programs/distance-learning-telemedicine-grants provides additional guidance information for matching contributions.

(a) Match Documentation. Grant applicants must demonstrate matching contributions, in cash or in kind (new or non-depreciated items), of at least 15 percent of the grant amount requested. Matching contributions must be used for approved purposes for grants (see 7 CFR 1734.21 and Section D.6 of this notice). Applications that do not provide sufficient documentation of the required 15 percent match will be deemed ineligible.

(b) Discounts and Donations. A review of applications submitted in the past determined that vendor-donated matches did not have value without a required subsequent purchase of vendor equipment or licenses with grant funds. For example, in many grant applications, software licenses were donated in satisfaction of the matching requirement. However, such licenses only worked with, and thus only had value with, the same vendor's equipment. Additionally, by side agreement, grant applicants were required to purchase the vendor's equipment once the grant was made with grant funds. The Agency determined that such a practice violated federal procurement standards found at 2 CFR 200.317-326, because the grant applicant did not put the purchase out for bid, either because no other equipment would work with the “donated” licenses, or because they were contractually obligated to buy the equipment before the grant was made. As such, the Agency has determined that vendor matches requiring subsequent purchases, either by necessity or contract, are not permitted.

4. Other. The Application Guide provides additional information regarding eligible and ineligible items for equipment and facilities.

Grant applications that are written by vendors who are mentioned in the application as vendors to be used on the project to be funded by the DLT award are ineligible as a violation of the competition rules in 2 CFR 200.319. Such vendors are also prohibited from bidding on the project because of conflict of interest. Additionally, applicants must fully understand the procurement requirements of 2 CFR part 200 subpart D and the DLT regulations when compiling an application for submission and must avoid the use of predetermined equipment as a violation of the bidding requirements unless they have adequately demonstrated in the application that no other equipment is available for the intended purpose.

Projects located in areas covered by the Coastal Barrier Resources Act (16 U.S.C. 3501 et seq.) are not eligible for financial assistance from the DLT Program. See 7 CFR 1734.23(a)(11).

D. Application and Submission Information

1. Address to Request Application Package. The Application Guide, copies of forms and resources are available at https://www.rd.usda.gov/programs-services/telecommunications-programs/distance-learning-telemedicine-grants.

The Application Guide provides specific, detailed instructions for each item of a complete application. The Agency emphasizes the importance of including every item and strongly encourages applicants to follow the instructions carefully, using the examples and illustrations in the Application Guide.

2. Content and Form of Application Submission.

(a) Application Completion. Carefully review 7 CFR part 1734 subparts A and B. A list of items for a complete application can be found at 7 CFR 1734.25. The Application Guide also provides additional information on how to complete the application.

(b) Description of Project Sites. Most DLT grant projects contain several project sites. The Agency provides a site worksheet to help applicants clearly identify hub, hub/end-user, and end-user sites. The Application Guide provides a sample site worksheet to help guide the Applicant on what information to provide to the Agency. As in prior DLT funding windows, site information must be consistent throughout the application. Applications without consistent site information will be returned as ineligible.

(c) Submission of Application Items. Given the high volume of program interest, applicants should submit the application items in the order as indicated in the table below. Applications that are not assembled in the specified order prevent timely determination of eligibility. For duplicate applications submitted through Grants.gov, the Agency will base its evaluation on the last copy of the application submitted. If an applicant submits multiple applications for different projects, then the Agency will only consider the application with the highest score.

Application item | Regulation | Comments
SF-424 (Application for Federal Assistance Form) | 7 CFR 1734.25(a) | Form provided through Grants.gov.
Executive Summary of the Project | 7 CFR 1734.25(b) | Narrative, including a publicly releasable section that describes the population served.
Scoring Criteria Documentation | 7 CFR 1734.25(c) | Provide documentation on how applicant meets each of the scoring criteria (see § 1734.26).
Scope of Work | 7 CFR 1734.25(d) | Narrative and documentation, including the budget.
Financial Information and Sustainability | 7 CFR 1734.25(e) | Narrative.
Statement of Experience | 7 CFR 1734.25(f) | Narrative.
Funding Commitments from All Sources | 7 CFR 1734.25(g) | Worksheet and match documentation letters with authorized signatures.
Telecommunications System Plan | 7 CFR 1734.25(h) | Documentation.
Compliance with other Federal Statutes | 7 CFR 1734.25(i) | Addressed by providing Financial Assistance Representations and Certifications in www.SAM.gov.
Non-Duplication of Services | 7 CFR 1734.25(i) | Guidance provided in the Application Guide.
Assurance Regarding Felony Conviction or Tax Delinquent Status for Corporate Applicants | 7 CFR 1734.25(i) | Addressed by providing Financial Assistance Representations and Certifications in www.SAM.gov.
Environmental Review Requirements | 7 CFR 1734.25(j) | Guidance provided in the Application Guide.
Evidence of Legal Authority and Existence | 7 CFR 1734.25(k) | Guidance provided in the Application Guide.
Federal Debt Certification | 7 CFR 1734.25(l) | SF-424, Application for Federal Assistance.
Consultation with USDA State Director | 7 CFR 1734.25(m) | Documentation.
Supplemental Information | 7 CFR 1734.25(n) | Documentation.

Submit the electronic application through www.grants.gov. Do not send a paper copy to RUS. To increase the range of applicants that will be successful in FY 2023, only ONE application per applicant is eligible for approval. If an applicant submits more than one application through www.grants.gov, the Agency will base its evaluation on the application last submitted.

3. System for Award Management and Unique Entity Identifier.

(a) At the time of application, each applicant must have an active registration in the System for Award Management (SAM) before submitting its application in accordance with 2 CFR part 25, Universal Entity Identifier and System for Award Management. To register in SAM, entities will be required to create a Unique Entity Identifier (UEI). Instructions for obtaining the UEI are available at https://sam.gov/content/entity-registration.

(b) Each applicant must maintain an active SAM registration, with current, accurate and complete information, at all times during which it has an active federal award or an application under consideration by a federal awarding agency.

(c) Each applicant must ensure they complete the Financial Assistance General Certifications and Representations in SAM.

(d) Applicants must provide a valid UEI in its application, unless determined exempt under 2 CFR 25.110, Exceptions.

(e) The Agency will not make an award until the applicant has complied with all SAM requirements including providing the UEI. If an applicant has not fully complied with the requirements by the time the Agency is ready to make an award, the Agency may determine that the applicant is not qualified to receive a federal award and use that determination as a basis for making a federal award to another applicant.

4. Submission Dates and Times.

(a) Application Technical Assistance. Prior to official submission of applications, applicants may request technical assistance or other application guidance from the Agency, as long as such requests are made prior to January 17, 2023. Agency contact information can be found in FOR FURTHER INFORMATION CONTACT section of this notice.

(b) Application Deadline Date. Applications must be submitted through www.grants.gov and received no later than January 30, 2023 to be eligible for funding under this grant opportunity.

(c) Applications Received After Deadline Date. Late or incomplete applications will not be eligible for funding under this grant opportunity.

The Agency will not solicit or consider new scoring or eligibility information that is submitted after the application deadline. The Agency reserves the right to contact applicants to seek clarification on materials contained in the submitted application.

5. Intergovernmental Review. The DLT Grant Program is subject to Executive Order 12372, “Intergovernmental Review of Federal Programs.” Submit one copy of the application to the State government single point of contact, if one has been designated, at the same time as application submission to the Agency. If the project is located in more than one state, submit a copy to each applicable state government single point of contact. Go to https://www.whitehouse.gov/wp-content/uploads/2020/04/SPOC-4-13-20.pdf for state office contact information. Applications from Federally recognized Indian tribes are not subject to this requirement.

6. Funding Restrictions. Ineligible grant purposes are outlined in 7 CFR 1734.23.

Hub sites located in non-rural areas are not eligible for grant assistance unless they are necessary to provide DLT services to rural residents at end user sites. See 7 CFR 1734.2(h). Applicants should exclude ineligible items and ineligible matching contributions from the budget. If an ineligible item or matching contribution is included in the budget, the item will be removed and may result in an application being deemed ineligible. See the Application Guide for more details on funding restrictions, matching contributions, a recommended budget format, and detailed budget compilation instructions.

7. Other Submission Requirements.

(a) Applications will not be accepted via paper, fax or electronic mail.

(b) Submit the electronic application through www.grants.gov. Do not send a paper copy to RUS.

(c) Grants.gov requires some credentialing and online authentication procedures. These procedures may take several business days to complete. Therefore, the applicant should complete the registration, credentialing, and authorization procedures at www.grants.gov before submitting an application. Instructions on all required passwords, credentialing, and software are available on www.grants.gov. If system errors or technical difficulties occur, use the customer support resources available at the Grants.gov website.

E. Application Review Information

1. Criteria. Grant applications are scored competitively and are subject to the criteria provided in 7 CFR 1734.26 and this notice, and further guidance on these criteria is provided in the Application Guide.

(a) Rurality Category (up to 40 points). The rurality score is based on two factors: (1) the population size of each community where an end-user site is located and (2) whether an end-user site lies within an urbanized area contiguous and adjacent to a city or town having a population in excess of 50,000 inhabitants. For non-fixed site projects and projects which contain non-fixed components, the rurality score will be based on the hub site. Applicants should use 2010 census data from the census website (https://data.census.gov/cedsci/) as their source for population data. To determine if a site lies in any incorporated or unincorporated city, village, or borough having a population in excess of 20,000 inhabitants or an urbanized area contiguous and adjacent to a city or town having a population in excess of 50,000 inhabitants, applicants should check the site address, using the DLT mapping tool at https://ruraldevelopment.maps.arcgis.com/apps/webappviewer/index.html?id=15a73830555645ae93d2fa773ed8e971. The Application Guide provides additional guidance for this category, including a Rurality Worksheet to assist applicants in the calculation of their rurality scores.

(b) Economic Need Category (up to 30 points). Economic need is based on the county poverty percentage of the end-user sites proposed in the application. The percentages must be determined by utilizing the United States Census Small Area Income and Poverty Estimates (SAIPE) Program. Applicants can use the spreadsheet posted to the DLT Program website to look up current SAIPE county-level data. End-user sites located in geographic areas, for which no SAIPE data exist, will be determined to have an average SAIPE poverty percentage of 30 percent. Such geographic areas may include territories of the United States or other locations eligible for funding through the DLT Grant Program. End-user sites located in geographic areas for which no SAIPE data exist will be determined to have an average SAIPE poverty percentage of 30 percent. Such geographic areas may include territories of the United States or other locations eligible for funding through the DLT Grant Program.

(c) Service Needs and Benefits Category (up to 30 points). This category measures the extent to which the proposed project meets the need for distance learning or telemedicine services in rural areas, the benefits derived from the proposed services, and the local community involvement in the planning, implementation, and financial assistance of the project. RUS will also consider the extent to which the applicant's documentation identifies the local economic, education, or health care challenges. The applicant must explain how the project proposes to address these issues and why the applicant cannot complete the project without a grant.

(d) Special Consideration (up to 10 points). Special consideration points will be awarded for projects with at least one end-user site in the following areas. Applicants may only receive special consideration points in one area (up to 10 points):

(i) (10 points) Projects that serve Tribal Lands, Farmworker Communities, or Distressed Energy Communities. Projects that enable and improve distance learning and telemedicine services on Tribal Lands are eligible for 10 points. Non-Tribal applicants must submit a letter of Tribal consent consistent with Section C.2 if services are being proposed on Tribal Lands. from the Tribe(s) with whom they propose to partner. If the applicant proposes to partner with more than one Tribe, consent from each Tribe is required. If consent is not provided, the project will be deemed ineligible. Projects that enable and improve distance learning and telemedicine services to Farmworker Communities in rural areas are eligible for 10 points. The key to the success of the food and agriculture industries is the millions of workers that power it. Farmworkers include agricultural workers, field crop workers, nursery workers, livestock workers, graders and sorters. Applicants seeking these points should describe the type of farm work that is prevalent in the community they intend to serve and how many farmworkers will be served by the project. Projects that enable and improve distance learning and telemedicine services to Distressed Energy Communities in rural areas are eligible for 10 points.

Tribal Lands, Farmworker Communities, and Distressed Energy Communities are identified in GIS layers included in the DLT mapping tool located at: https://ruraldevelopment.maps.arcgis.com/apps/webappviewer/index.html?id=15a73830555645ae93d2fa773ed8e971.

Tribal Lands will be identified using the GIS layers (Tribal Area (BIA LAR); Tribal Supplemental Area (BIA LAR); Tribal Statistical Area (BIA); and Census Tribal areas in Alaska. The GIS layer for Farmworker Communities will consist of rural areas that have received funding under the USDA Rural Housing Service (RHS) Farm Labor Housing Programs. Distressed Energy Communities are identified as communities that are fossil fuel dependent (e.g., coal, oil, gas, and power plant communities) whose economic well-being ranks in the most distressed tier of the Distressed Communities Index. The energy community list is defined by the Report to the President on Empowering Workers Through Revitalizing Energy Communities.

(ii) (10 points) Projects that support Native American Language(s). Language helps people engage meaningfully with one another, share knowledge, worldviews, cultural expressions, beliefs, traditions, and hope for the future—from generation to generation. Yet, many indigenous languages across the world are in danger of falling into disuse. It is the policy of the United States to preserve, protect, and promote the rights and freedom of Native Americans to use, practice, and develop Native languages. Projects that use distance learning to protect, revitalize, and promote the use of Native languages are eligible for 10 points. For this criterion, USDA will look to the Native American Languages Preservation Act of 2006 which defines Native American Language as the historical, traditional languages spoken by Native Americans, including the languages spoken by Native Hawaiian and Native American Pacific Islander Peoples. To receive these points, an applicant must indicate the Native American Language(s) that will be supported by the project, list the qualifications of the instructor(s) to teach that language, and include the number of students that will be served by the project.

(iii) (10 points) Projects that support Mental Health Services. Rural communities have fewer mental health facilities and less access to mental health services and professionals. The lack of this vital infrastructure puts low-income residents, veterans, and young people in rural communities at risk, with the suicide rate growing at a faster pace among rural youth. Projects that enable and improve telemedicine services to support mental health services in rural communities are eligible for 10 points. The executive summary and the needs and benefits section of the application must demonstrate that supporting mental health services is a primary purpose of the application.

2. Review and Selection Process.

(a) Grant applications are ranked by the final score. RUS selects applications based on those rankings, subject to the availability of funds. As noted in Section D.2.c. of this announcement, RUS will approve no more than one application per applicant. If an applicant submits more than one application for different projects, then the Agency will only consider the application with the highest score. If an applicant submits more than one application for the same project, then the Agency will only consider the latest submission. In addition, the Agency has the authority to limit the number of applications selected in any one state or for any one project during a fiscal year. See 7 CFR 1734.27 for a description of the grant application selection process. An application receiving fewer points can be selected over a higher scoring application in the event that there are insufficient funds available to cover the costs of the higher scoring application, as stated in 7 CFR 1734.27(b)(3).

(b) The Agency evaluates grant applications in accordance with 7 CFR 1734.27(c).

(c) The agency reserves the right to offer the applicant less than the grant funding requested.

F. Federal Award Administration Information

1. Federal Award Notices. RUS notifies applicants whose projects are selected for awards by mailing or emailing a copy of an award letter. The receipt of an award letter does not authorize the applicant to commence performance under the award. After sending the award letter, the Agency will send an agreement that contains all the terms and conditions for the grant. An applicant must execute and return the grant agreement, accompanied by any additional items required by the agreement, within the number of days specified in the selection notice letter. The standard agreement is available on the https://www.rd.usda.gov/programs-services/telecommunications-programs/distance-learning-telemedicine-grants.

2. Administrative and National Policy Requirements.

The items listed in this announcement, the DLT Grant Program regulation, the Application Guide, and program resources implement the appropriate administrative and national policy requirements, which include but are not limited to:

(a) Executing a DLT Grant Agreement.

(b) Using Form SF 270, “Request for Advance or Reimbursement,” to request reimbursements (along with the submission of receipts for expenditures and any other documentation to support the request for reimbursement).

(c) Submitting an annual Project Performance Activity Report, no later than January 31st of the year following the year in which all or any portion of the grant is first advanced and continuing in subsequent years until completion of the project.

(d) Ensuring that records are maintained to document all activities and expenditures utilizing DLT grant funds and matching funds (receipts for expenditures are to be included in this documentation).

(e) Providing a final project performance report, no later than one hundred twenty (120) days after the expiration date, termination of the grant, the project completion, or the final disbursement of the grant by the grantee, whichever event occurs last.

(f) Complying with policies, guidance, and requirements as described in the following applicable Code of Federal Regulations, and any successor regulations:

(i) 2 CFR parts 200 and 400 (Uniform Administrative Requirements, Cost Principles, and Audit Requirements for Federal Awards).

(ii) 2 CFR parts 417 and 180 (Government-wide Nonprocurement Debarment and Suspension).

(g) Complying with Executive Order 13166, “Improving Access to Services for Persons with Limited English Proficiency.” For information on limited English proficiency and agency-specific guidance, go to https://www.LEP.gov.

(h) Accountability and Compliance with Civil Rights Laws. The regulation found at 7 CFR part 1901 Subpart E contains policies and procedures for implementing the regulations of the Department of Agriculture issued pursuant to Title VI of the Civil Rights Act of 1964, Title VIII of the Civil Rights Act of 1968, Title IX, Section 504 of the Rehabilitation Act of 1973, Executive Order 13166, Executive Order 11246, and the Equal Credit Opportunity Act of 1974, as they relate to the Rural Development. Nothing herein shall be interpreted to prohibit preference to American Indians on Indian Reservations.

The policies contained in this subpart apply to recipients. As recipients of federal financial assistance, awardees are required to comply with the applicable federal, state and local laws. Title VI of the Civil Rights Act of 1964 and Section 504 of the Rehabilitation Act prohibits discrimination by recipients of federal financial assistance. Recipients are required to adhere to specific outreach activities. These outreach activities include contacting community organizations and leaders that include minority leaders; advertising in local newspapers and other media throughout the entire service area; and including the nondiscrimination slogan, “This is an Equal Opportunity Program. Discrimination is prohibited by Federal Law,” in methods that may include, but not be limited to, advertisements, electronic media, public broadcasts, and printed materials, such as brochures and pamphlets.

By completing the Financial Assistance Representations and Certifications in SAM, recipients affirm that they will operate the program free from discrimination. The recipient will maintain the race and ethnic data on the board members and beneficiaries of the program. The recipient will provide alternative forms of communication to persons with limited English proficiency. The Agency will conduct Civil Rights Compliance Reviews on recipients to identify the collection of racial and ethnic data on program beneficiaries. In addition, the compliance review will ensure that equal access to the program benefits and activities are provided for persons with disabilities and language barriers.

3. Reporting.

(a) Performance Reporting. All recipients of DLT financial assistance must provide annual performance activity reports to RUS until the project is complete and the funds are expended. A final performance report is also required; the final report may serve as the last annual report. The final report must include an evaluation of the success of the project in meeting the DLT Grant Program objectives. See 7 CFR 1734.7 for additional information on these reporting requirements.

(b) Annual Audit. All recipients of DLT financial assistance must provide an annual audit as follows:

(i) Non-Federal Entities, which include recipients that are states, local governments, Indian tribes, institutions of higher education, or nonprofit organizations, shall provide RUS with an audit pursuant to 2 CFR part 200, subpart F (Audit Requirements). The recipient must follow subsection 2 CFR 200.502 in determining federal awards expended. All RUS loans impose an ongoing compliance requirement for the purpose of determining federal awards expended during a fiscal year. In addition, the recipient must include the value of new federal loans made along with any grant expenditures from all federal sources during the recipient's fiscal year. Therefore, the audit submission requirement for this program begins in the recipient's fiscal year that the loan is made and thereafter, based on the balance of federal loan(s) at the beginning of the audit period. All required audits must be submitted within the earlier of: (i) 30 calendar days after receipt of the auditor's report; or (ii) nine months after the end of the recipient's audit period.

(ii) For all other entities, recipients shall provide RUS with an audit within 120 days after the as of audit date in accordance with 7 CFR part 1773. With respect to grant funds, the audit is required until all grant funds have been expended or rescinded. While an audit is required, recipients must also submit the reports on internal control; compliance with provisions of laws, regulations, contracts and grant agreements; and instances of fraud.

(c) Recipient and Sub-recipient Reporting. The applicant must have the necessary processes and systems in place to comply with the reporting requirements for first-tier sub-awards and executive compensation under the Federal Funding Accountability and Transparency Act of 2006 in the event the applicant receives funding, unless such applicant is exempt from such reporting requirements pursuant to 2 CFR 170.110(b). The reporting requirements under the Transparency Act pursuant to 2 CFR part 170 are as follows:

(i) First Tier Sub-Awards of $25,000 or more (unless they are exempt under 2 CFR part 170) must be reported by the recipient to https://www.fsrs.gov no later than the end of the month following the month the obligation was made. Please note that currently underway is a consolidation of eight federal procurement systems, including the Federal Sub-award Reporting System (FSRS), into one system, the System for Award Management (SAM). As a result, the FSRS will soon be consolidated into and accessed through https://www.sam.gov.

(ii) The total compensation of the recipient's executives (the five most highly compensated executives) must be reported by the recipient (if the recipient meets the criteria under 2 CFR part 170) to https://www.sam.gov by the end of the month following the month in which the award was made.

(iii) The total compensation of the sub-recipient's executives (the five most highly compensated executives) must be reported by the sub-recipient (if the sub- recipient meets the criteria under 2 CFR part 170) to the recipient by the end of the month following the month in which the sub-award was made.

(d) Record Keeping and Accounting. The agreement will contain provisions related to record keeping and accounting requirements.

G. Federal Awarding Agency Contacts

For general questions about this announcement, please contact the point of contact provided in the FOR FURTHER INFORMATION CONTACT section of this notice.

H. Buy America

Awards under this announcement for Infrastructure projects to Non-Federal entities, defined pursuant to 2 CFR 200.1 as any state, local government, Indian tribe, Institution of Higher Education, or nonprofit organization, shall be governed by the requirements of Section 70914 of the Build America, Buy America Act (BABA) within the Infrastructure Investment and Jobs Act (IIJA), and its implementing regulations. The Act requires the following Buy America preference:

(1) All iron and steel used in the project are produced in the United States. This means all manufacturing processes, from the initial melting stage through the application of coatings, occurred in the United States.

(2) All manufactured products used in the project are produced in the United States. This means the manufactured product was manufactured in the United States, and the cost of the components of the manufactured product that are mined, produced, or manufactured in the United States is greater than 55 percent of the total cost of all components of the manufactured product, unless another standard for determining the minimum amount of domestic content of the manufactured product has been established under applicable law or regulation.

(3) All construction materials (excludes cement and cementitious materials, aggregates such as stone, sand, or gravel, or aggregate binding agents or additives) are manufactured in the United States. This means that all manufacturing processes for the construction material occurred in the United States.

The Buy America preference only applies to articles, materials, and supplies that are consumed in, incorporated into, or affixed to an infrastructure project. As such, it does not apply to tools, equipment, and supplies, such as temporary scaffolding, brought to the construction site and removed at or before the completion of the infrastructure project. Nor does a Buy America preference apply to equipment and furnishings, such as movable chairs, desks, and portable computer equipment, that are used at or within the finished infrastructure project but are not an integral part of the structure or permanently affixed to the infrastructure project.

I. Other Information

Paperwork Reduction Act

In accordance with the Paperwork Reduction Act of 1995 (44 U.S.C. chapter 35), the information collection requirements associated with the programs, as covered in this notice, have been approved by the Office of Management and Budget (OMB) under OMB Control Number 0572-0096.

National Environmental Policy Act

All recipients under this notice are subject to the requirements of 7 CFR part 1970 (https://www.ecfr.gov/current/title-7/subtitle-B/chapter-XVIII/subchapter-H/part-1970).

Federal Funding Accountability and Transparency Act

All applicants, in accordance with 2 CFR part 25 (https://www.ecfr.gov/current/title-2/part-25), must be registered in SAM and have a UEI number as stated in Section D.3 of this notice. All recipients of federal financial assistance are required to report information about first-tier sub-awards and executive total compensation in accordance with 2 CFR part 170 (https://www.ecfr.gov/current/title-2/part-170).

Civil Rights Act

All grants made under this notice are subject to Title VI of the Civil Rights Act of 1964 as required by the USDA (7 CFR part 15, subpart A Nondiscrimination in Federally Assisted Programs of the Department of Agriculture—Effectuation of Title VI of the Civil Rights Act of 1964) and Section 504 of the Rehabilitation Act of 1973, Title VIII of the Civil Rights Act of 1968, Title IX, Executive Order 13166 (Limited English Proficiency), Executive Order 11246, and the Equal Credit Opportunity Act of 1974.

Nondiscrimination Statement

In accordance with federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the 711 Relay Service.

To file a program discrimination complaint, a complainant should complete a Form AD-3027, USDA Program Discrimination Complaint Form, which can be obtained online at https://www.usda.gov/sites/default/files/documents/usda-program-discrimination-complaint-form.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Andrew Berke,
Administrator, Rural Utilities Service, USDA Rural Development.

[FR Doc. 2022-26128 Filed 11-30-22; 8:45 am]

BILLING CODE 3410-15-P